DEPARTMENT OF COMMERCE

National Oceanic and Atmospheric Administration

National Oyster Disease Research Program and Gulf Oyster Industry Initiative, and Aquatic Nuisance Species Research and Outreach: Requests for Proposals for FY 2001; Correction

AGENCY: National Sea Grant College Program, National Oceanic and Atmospheric Administration, Department of Commerce.

ACTION: Notice; correction.

SUMMARY: The National Sea Grant College Program (Sea Grant) published two documents in the Federal Register of March 5, 2001, entitled “National Oyster Disease Research Program and Gulf Oyster Industry Initiative: Request for Proposals” (pages 13295-13301) and “Aquatic Nuisance Species Research and Outreach: Request for Proposals for FY 2001” (pages 13310-13305). This notice corrects and revises the dates for submission of preproposals and proposals.

FOR FURTHER INFORMATION CONTACT: Leon Cammen 301-713-2435 Ext 136.

Correction

For the Federal Register notices entitled “National Oyster Disease Research Program and Gulf Oyster Industry Initiative: Request for Proposals” (March 5, 2001, Docket 990125030-1039-02, pages 13295-13301) and “Aquatic Nuisance Species Research and Outreach: Request for Proposals for FY 2001” (March 5, 2001, Docket 990125028-1050-02, pages 13301-13305), the correct timetable for submission of preproposals and proposals is the following:

April 4, 2001, 5 pm (local time)—Preliminary proposals due at state Sea Grant Program, or at National Sea Grant Office if application is being submitted by a non Sea Grant College Program.

April 9, 2001, 5 pm (EST)—Preliminary proposals received at state Sea Grant Programs due at National Sea Grant Office.

May 30, 2001, 5 pm (local time)—Full proposals due at state Sea Grant Program, or at National Sea Grant Office if application is being submitted by a non Sea Grant College Program.

June 4, 2001, 5 pm (EST)—Full proposals received at state Sea Grant Programs due at National Sea Grant Office.

Dated: March 9, 2001.
Louisa Koch,
Deputy Assistant Administrator, Office of Oceanic and Atmospheric Research, National Oceanic and Atmospheric Administration.

[FR Doc. 01-6608 Filed 3-15-01; 8:45 am]

BILLING CODE 3510-KA-M